DEPARTMENT OF THE INTERIOR

Bureau of Land Management

[LLES961000 L53200000 BK0000 XXX LVDPLANDES01; AR-ES-058127, Group No. 115, Arkansas]

Eastern States: Filing of Plat of Survey

AGENCY: Bureau of Land Management, Interior.

ACTION: Notice of filing of plat of survey; Arkansas.

SUMMARY: The Bureau of Land Management (BLM) will file the plat of survey of the lands described below in the BLM-Eastern States, Washington, DC at least 30 calendar days from the date of publication in the Federal Register.

FOR FURTHER INFORMATION CONTACT: Bureau of Land Management, Eastern States Office, 20 M Street SE., Washington DC, 20003. Attn: Cadastral Survey. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was executed under the damaged lands fund.

Fifth Principal Meridian, Arkansas

T. 20 N., R. 11 W.

The plat of survey represents the dependent resurvey of a portion of the east boundary, a portion of the subdivisional lines, and the subdivision of section 13, Township 20 North, Range 11 West, of the Fifth Principal Meridian, Arkansas, and was accepted February 17, 2016. We will place a copy of the plat we described in the open files. It will be available to the public as a matter of information.

If BLM receives a protest against this survey, as shown on the plat, prior to the date of the official filing, we will stay the filing pending our consideration of the protest.

We will not officially file the plat until the day after we have accepted or dismissed all protests and they have become final, including decisions on appeals.

Dated: March 10, 2016.
Dominica VanKoten,
Chief Cadastral Surveyor.

[FR Doc. 2016-05891 Filed 3-15-16; 8:45 am]

BILLING CODE 4310-P